DEPARTMENT OF COMMERCE

International Trade Administration

[A-489-501]

Welded Carbon Steel Standard Pipe and Tube Products From Turkey: Final Results of Antidumping Duty Administrative Review; 2012-2013

AGENCY: Enforcement and Compliance, International Trade Administration, Department of Commerce.

SUMMARY: On June 25, 2014, the Department of Commerce (the Department) published the preliminary results of the administrative review of the antidumping duty order on welded carbon steel standard pipe and tube products (welded pipe and tube) from Turkey.¹ The period of review (POR) is May 1, 2012, through April 30, 2013. Based on our analysis of the comments received, we have made no changes in the margin calculations. Therefore, the final results do not differ from the Preliminary Results. The final weighted-average dumping margins for the reviewed firms are listed below in the section entitled “Final Results of the Review.” Further, unchanged from the Preliminary Results, we continue to find that various companies had no shipments of subject merchandise during the POR.

¹ See Welded Carbon Steel Standard Pipe and Tube Products From Turkey: Preliminary Results of Antidumping Duty Administrative Review; 2012-2013, 79 FR 35999 (June 25, 2014) (Preliminary Results), and the accompanying Preliminary Decision Memorandum (PDM).

DATES: Effective Date: December 1, 2014.

FOR FURTHER INFORMATION CONTACT: Victoria Cho, Fred Baker, or Robert James, AD/CVD Operations, Office VI, Enforcement and Compliance International Trade Administration, U.S. Department of Commerce, 14th Street and Constitution Avenue NW., Washington, DC, 20230; telephone (202) 482-5075, (202) 482-2924, or (202) 482-0649, respectively.

Background

On June 25, 2014, the Department published the Preliminary Results, and invited interested parties to comment.² On July 30, 2014, we received case briefs from the petitioner, Wheatland Tube Company (Wheatland), and one respondent, Borusan Mannesmann Boru Sanayi ve Ticaret A.S. (Borusan).³ On August 6, 2013, we received rebuttal briefs from Wheatland and Borusan.

² See Preliminary Results, 79 FR at 36000.

³ As explained in the Preliminary Results, the Department treats Borusan, Borusan Istikbal Ticaret T.A.S., and Borusan Lojistik Dagitim Depolama Tasimacilik ve Tic A.S. as the same legal entity. See 79 FR at 35999 and n.3.

The Department has conducted this administrative review in accordance with section 751 of the Tariff Act of 1930, as amended (the Act).

Scope of the Order

The merchandise subject to the order is welded pipe and tube. The welded pipe and tube subject to the order is currently classifiable under subheading 7306.30.1000, 7306.30.5025, 7306.30.5032, 7306.30.5040, 7306.30.5055, 7306.30.5085, and 7306.30.5090 of the Harmonized Tariff Schedule of the United States (HTSUS). The HTSUS subheadings are provided for convenience and customs purposes. The written description is dispositive.

A full written description of the scope of the order is contained in the memorandum from Christian Marsh, Deputy Assistant Secretary for Antidumping and Countervailing Duty Operations, to Paul Piquado, Assistant Secretary for Enforcement and Compliance, “Issues and Decision Memorandum for the Final Results of the Antidumping Duty Administrative Review: Welded Carbon Steel Standard Pipe and Tube Products from Turkey; 2012-2013” (Issues and Decision Memorandum), which is hereby adopted by this notice and incorporated herein by reference. The Issues and Decision Memorandum is a public document and is on file electronically via Enforcement and Compliance's Antidumping and Countervailing Duty Centralized Electronic Service System (ACCESS). ACCESS is available to registered users at http://access.trade.gov, and it is available to all parties in the Central Records Unit, Room 7046 of the main Department of Commerce building. In addition, a complete version of the Issues and Decision Memorandum can be accessed directly at http://enforcement.trade.gov/frn/. The signed Issues and Decision Memorandum and the electronic version of the Issues and Decision Memorandum are identical in content.

Final Determination of No Shipments

In the Preliminary Results, the Department preliminarily determined the following companies had no shipments during the POR: the Borusan Group, Borusan Holding A.S., Cayirova Boru Sanayi ve Ticaret A.S., ERBOSAN Erciyas Boru Sanayi ve Ticaret A.S., Guven Celik Boru San. ve Tic. Ltd., Guven Steel Pipe, Metaleks Celik Urunleri San. ve Tic. Ltd. Sti., Metaliks Celik Urunkeri San. ve Tic. Ltd., Toscelik Metal Ticaret A.S., Toscelik Profil ve Sac Endustrisi A.S., Umran Celik Boru Sanayii A.S., Umran Steel Pipe Inc., Yucel Boru ve Profil Endustrisi A.S, Yucelboru Ihracat Ithalat ve Pazarlama A.S., and Yucel Group.⁴ Following publication of the Preliminary Results, we received no comments from interested parties regarding these companies. As a consequence, and because the record contains no evidence to the contrary, we continue to find that none of these companies made shipments during the POR. Accordingly, consistent with the Department's practice, we intend to instruct U.S. Customs and Border Protection (CBP) to liquidate any existing entries of merchandise produced by these companies, but exported by other parties, at the all-others rate.⁵

⁴ See Preliminary Results, 79 FR at 35999 and the accompanying PDM at 3-4.

⁵ See, e.g., Magnesium Metal From the Russian Federation: Preliminary Results of Antidumping Duty Administrative Review, 75 FR 26922, 26923 (May 13, 2010) (Magnesium Metal), unchanged in Magnesium Metal From the Russian Federation: Final Results of Antidumping Duty Administrative Review, 75 FR 56989 (September 17, 2010).

Analysis of Comments Received

All issues raised in the case briefs by parties are addressed in the Issues and Decision Memorandum. A list of the issues which parties raised and to which we respond in the Issues and Decision Memorandum is attached to this notice as an Appendix.

Changes Since the Preliminary Results

Based on a review of the record and our analysis of the comments received from interested parties on the Preliminary Results, we have made no changes to the margin calculations.⁶

⁶ See the Issues and Decision Memorandum.

Final Results of the Review

As a result of this review, we determine that the following weighted-average dumping margins exist for the period May 1, 2012, through April 30, 2013:

Manufacturer/exporter | Weighted- average dumping margin (percent)
Borusan Mannesmann Boru Sanayi ve Ticaret A.S.⁷ | 1.28
Toscelik Profil ve Sac Endustrisi A.S.⁸ | 0.00

Disclosure

We intend to disclose the calculations performed within five days of the date of publication of this notice to parties in this proceeding in accordance with 19 CFR 351.224(b).

⁷ See footnote 3.

⁸ As explained in the Preliminary Results, the Department treats Toscelik Profil ve Sac Endustrisi A.S. and Tosyali Dis Ticaret A.S. as the same legal entity. See Preliminary Results, 79 FR at 35999 & n.3. However, the Department no longer includes Toscelik Metal Ticaret A.S. as part of this entity because it ceased to exist prior to the POR. Id.

Assessment Rates

The Department shall determine, and CBP shall assess, antidumping duties on all appropriate entries covered by this review pursuant to section 751(a)(2)(C) of the Act and 19 CFR 351.212(b). The Department intends to issue assessment instructions to CBP 15 days after the date of publication of these final results of review in the Federal Register.

For Borusan, because its weighted-average dumping margin is not zero or de minimis (i.e., less than 0.5 percent), the Department has calculated importer-specific antidumping duty assessment rates. We calculated importer-specific ad valorem antidumping duty assessment rates by aggregating the total amount of dumping calculated for the examined sales of each importer and dividing each of these amounts by the total entered value associated with those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis.

For Toscelik Profil ve Sac Endustrisi A.S. (Toscelik), we will instruct CBP to liquidate its entries during the POR imported by the importer identified in its questionnaire responses without regard to antidumping duties because its weighted-average dumping margin in these final results is zero.⁹

⁹ See Antidumping Proceeding: Calculation of the Weighted-Average Dumping Margin and Assessment Rate in Certain Antidumping Duty Proceedings; Final Modification, 77 FR 8103 (February 14, 2012).

The Department clarified its “automatic assessment” regulation on May 6, 2003.¹⁰ This clarification applies to entries of subject merchandise during the POR produced by companies included in these final results of review for which the reviewed companies did not know that the merchandise they sold to an intermediary (e.g., a reseller, trading company, or exporter) was destined for the United States. In such instances, we will instruct CBP to liquidate unreviewed entries at the all-others rate established in the less-than-fair-value (LTFV) investigation ¹¹ if there is no rate for the intermediate company(ies) involved in the transaction.¹²

¹⁰ See Antidumping and Countervailing Duty Proceedings: Assessment of Antidumping Duties, 68 FR 23954 (May 6, 2003) (Assessment Policy Notice).

¹¹ See Antidumping Duty Order; Welded Carbon Steel Standard Pipe and Tube Products From Turkey, 51 FR 17784, 17784 (May 15, 1986) (Order).

¹² See Assessment Policy Notice for a full discussion of this clarification.

For the companies identified above as having had no shipments, because the Department has determined that each of these companies had no shipments during the POR for which they had knowledge, all entries entered under each of their cash deposit rates will be liquidated at the all-others rate established in the LTFV investigation.¹³

¹³ See Magnesium Metal, 75 FR at 26923; Assessment Policy Notice, 68 FR 23954; see also Order, 51 FR at 17784.

Cash Deposit Requirements

The following cash deposit requirements will be effective for all shipments of subject merchandise entered, or withdrawn from warehouse, for consumption on or after the publication date of the final results of this administrative review, as provided by section 751(a)(2)(C) of the Act: (1) The cash deposit rates for Borusan and Toscelik will be equal to the weighted-average dumping margins established in the final results of this review; (2) for previously reviewed or investigated companies not participating in this review, the cash deposit rate will continue to be the company-specific rate established from a completed segment of this proceeding for the most recent period; (3) if the exporter is not a firm covered in this review, a previous review, or the original LTFV investigation, but the manufacturer is, the cash deposit rate will be the rate established from a completed segment of this proceeding for the most recent period for the manufacturer of the merchandise; and (4) the cash deposit rate for all other manufacturers or exporters will continue to be 14.74 percent, the all-others rate established in the LTFV investigation.¹⁴ These deposit requirements, when imposed, shall remain in effect until further notice.

¹⁴ See Order, 51 FR at 17784.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred, and the subsequent assessment of double antidumping duties.

Notifications to Interested Parties

In accordance with 19 CFR 351.305(a)(3), this notice serves as the only reminder to parties subject to administrative protective order (APO) of their responsibility concerning the disposition of proprietary information disclosed under APO. Timely written notification of return or destruction of APO materials, or conversion to judicial protective order, is hereby requested. Failure to comply with the regulations and the terms of an APO is a sanctionable violation.

These final results of review and notice are published in accordance with sections 751(a)(1) and 777(i)(1) of the Act.

Dated: November 21, 2014.
Paul Piquado,
Assistant Secretary for Enforcement and Compliance.

Appendix—List of Topics Discussed in the Issues and Decision Memorandum

Summary

Background

Scope of the Order

Discussion of the Issues

Issue 1: Physical Characteristic for Grade

Issue 2: Whether the Department Should Collapse ASTM A53 grade A and ASTM A53 grade B into a Single Grade Category

Issue 3: Duty Drawback and Treatment of the Resource Utilization Support Fund Tax

Issue 4: Duty Drawback and Yield Loss Factor

Issue 5: Differential Pricing

Issue 6: Withdrawal of the Regulatory Provisions Governing Targeted Dumping in Less-Than-Fair-Value Investigations

Recommendation

[FR Doc. 2014-28263 Filed 11-28-14; 8:45 am]

BILLING CODE 3510-DS-P